ENVIRONMENTAL PROTECTION AGENCY

40 CFR Parts 52, 60, and 61

[FRL-9198-2]

Change of Address for Region 5 State and Local Agencies; Technical Correction

AGENCY: Environmental Protection Agency (EPA).

ACTION: Final rule; technical amendment.

SUMMARY: EPA is correcting the addresses for EPA Region 5 state and local agencies in EPA regulations. The jurisdiction of EPA Region 5 includes the states of Illinois, Indiana, Michigan, Minnesota, Ohio and Wisconsin. Certain EPA air pollution control regulations requiring submittal of notifications, reports and other documents to the EPA Regional office, must also be submitted to the appropriate authorized state or local agency. This technical amendment updates and corrects the addresses for submitting such information to the EPA Region 5 state and local agency offices.

DATES: Effective Date: This action is effective September 10, 2010.

FOR FURTHER INFORMATION CONTACT: Jeremiah Hall, Attainment Planning & Maintenance Section, Air Program Branch, Air and Radiation Division, Region 5, U.S. Environmental Protection Agency, 77 West Jackson Blvd., Chicago, Illinois 60604. The telephone number is (312) 353-3503. Jeremiah Hall can also be reached via electronic mail at hall.jeremiah@epa.gov.

SUPPLEMENTARY INFORMATION: EPA is correcting the addresses for EPA Region 5 state and local agencies in EPA regulations found at 40 CFR parts 52, 60 and 61. Certain EPA air pollution control regulations requiring submittal of notifications, reports and other documents to the EPA regional office, must also be submitted to the appropriate authorized state and local agency. This technical amendment updates and corrects the address for submitting such information to the EPA Region 5 state and local agency offices.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 9, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Parts 52, 60 and 61

Environmental protection, Air pollution control, Incorporation by reference, Intergovernmental relations, Reporting and recordkeeping requirements.

Dated: August 26, 2010.
Bharat Mathur,
Acting Regional Administrator, Region 5.

40 CFR parts 52, 60 and 61 are amended as follows:

PART 52—[AMENDED]

1. The authority citation for part 52 continues to read as follows:

Authority: 42 U.S.C. 7401 et seq.

Subpart B—Illinois

2. Section 52.738 is amended by revising paragraph (c) to read as follows:

§ 52.738 Significant deterioration of air quality.

* * * * *

(c) All applications and other information required pursuant to § 52.21 from sources located in the State of Illinois shall be submitted to the state agency, Illinois Environmental Protection Agency, 1021 North Grand Avenue East, Springfield, Illinois 62794.

Subpart P—Indiana

3. Section 52.793 is amended by revising paragraph (c) to read as follows:

§ 52.793 Significant deterioration of air quality.

* * * * *

(c) All applications and other information required pursuant to § 52.21 of this part from sources located in the State of Indiana shall be submitted to the state agency, Indiana Department of Environmental Management, Office of Air Quality, 100 North Senate Avenue, Indianapolis, Indiana 46204, rather than to EPA's Region 5 office.

Subpart X—Michigan

4. Section 52.1180 is amended by revising paragraph (c) to -+read as follows:

§ 52.1180 Significant deterioration of air quality.

* * * * *

(c) All applications and other information required pursuant to § 52.21 of this part from sources located in the State of Michigan shall be submitted to the state agency, Michigan Department of Natural Resources and Environment, Air Quality Division, P.O. Box 30028, Lansing, Michigan 48909, rather than to EPA's Region 5 office.

Subpart Y—Minnesota

5. Section 52.1234 is amended by revising paragraph (c) to read as follows:

§ 52.1234 Significant deterioration of air quality.

* * * * *

(c) All applications and other information required pursuant to § 52.21 of this part from sources located in the State of Minnesota shall be submitted to the state agency, Minnesota Pollution Control Agency, Division of Air Quality, 520 Lafayette Road North, St. Paul, Minnesota 55155, rather than to EPA's Region 5 office.

Subpart KK—Ohio

6. Section 52.1884 is amended by revising paragraph (c) to read as follows:

§ 52.1884 Significant deterioration of air quality.

* * * * *

(c) All application and other information required pursuant to § 52.21 of this part from sources located or to be located in the state of Ohio shall be submitted to the state agency, Ohio Environmental Protection Agency, P.O. Box 1049, Columbus, Ohio 43216, rather than to EPA's Region 5 office.

PART 60—[AMENDED]

7. The authority citation for part 60 continues to read as follows:

Authority: 42 U.S.C. 7401 et seq.

Subpart A—General Provisions

8. Section 60.4 is amended by revising paragraphs (b)(O), (b)(P), (b)(X), (b)(Y), (b)(KK), and (b)(YY) to read as follows:

§ 60.4 Address.

* * * * *

(b) * * *

(O) State of Illinois: Illinois Environmental Protection Agency, 1021 North Grand Avenue East, Springfield, Illinois 62794.

(P) State of Indiana: Indiana Department of Environmental Management, Office of Air Quality, 100 North Senate Avenue, Indianapolis, Indiana 46204.

* * * * *

(X) State of Michigan: Michigan Department of Natural Resources and Environment, Air Quality Division, P.O. Box 30028, Lansing, Michigan 48909.

(Y) State of Minnesota: Minnesota Pollution Control Agency, Division of Air Quality, 520 Lafayette Road North, St. Paul, Minnesota 55155.

* * * * *

(KK) State of Ohio:

(i) Medina, Summit and Portage Counties; Director, Akron Regional Air Quality Management District, 146 South High Street, Room 904, Akron, OH 44308.

(ii) Stark County; Director, Canton City Health Department, Air Pollution Control Division, 420 Market Avenue North, Canton, Ohio 44702-1544.

(iii) Butler, Clermont, Hamilton, and Warren Counties; Director, Hamilton County Department of Environmental Services, 250 William Howard Taft Road, Cincinnati, Ohio 45219-2660.

(iv) Cuyahoga County; Commissioner, Cleveland Department of Public Health, Division of Air Quality, 75 Erieview Plaza 2nd Floor, Cleveland, Ohio 44114.

(v) Clark, Darke, Greene, Miami, Montgomery, and Preble Counties; Director, Regional Air Pollution Control Agency, 117 South Main Street, Dayton, Ohio 45422-1280.

(vi) Lucas County and the City of Rossford (in Wood County); Director, City of Toledo, Division of Environmental Services, 348 South Erie Street, Toledo, OH 43604.

(vii) Adams, Brown, Lawrence, and Scioto Counties; Portsmouth Local Air Agency, 605 Washington Street, Third Floor, Portsmouth, OH 45662.

(viii) Allen, Ashland, Auglaize, Crawford, Defiance, Erie, Fulton, Hancock, Hardin, Henry, Huron, Marion, Mercer, Ottawa, Paulding, Putnam, Richland, Sandusky, Seneca, Van Wert Williams, Wood (Except City of Rossford), and Wyandot Counties; Ohio Environmental Protection Agency, Northwest District Office, Air Pollution Control, 347 North Dunbridge Road, Bowling Green, Ohio 43402.

(ix) Ashtabula, Caroll, Colombiana, Holmes, Lorain, and Wayne Counties; Ohio Environmental Protection Agency, Northeast District Office, Air Pollution Unit, 2110 East Aurora Road, Twinsburg, OH 44087.

(x) Athens, Belmont, Coshocton, Gallia, Guemsey, Harrison, Hocking, Jackson, Jefferson, Meigs, Monroe, Morgan, Muskingum, Noble, Perry, Pike, Ross, Tuscarawas, Vinton, and Washington Counties; Ohio Environmental Protection Agency, Southeast District Office, Air Pollution Unit, 2195 Front Street, Logan, OH 43138.

(xi) Champaign, Clinton, Highland, Logan, and Shelby Counties; Ohio Environmental Protection Agency, Southwest District Office, Air Pollution Unit, 401 East Fifth Street, Dayton, Ohio 45402-2911.

(xii) Delaware, Fairfield, Fayette, Franklin, Knox, Licking, Madison, Morrow, Pickaway, and Union Counties; Ohio Environmental Protection Agency, Central District Office, Air Pollution control, 50 West Town Street, Suite 700, Columbus, Ohio 43215.

(xiii) Geauga and Lake Counties; Lake County General Health District, Air Pollution Control, 33 Mill Street, Painesville, OH 44077.

(xiv) Mahoning and Trumbull Counties; Mahoning-Trumbull Air Pollution Control Agency, 345 Oak Hill Avenue, Suite 200, Youngstown, OH 44502.

* * * * *

(YY) State of Wisconsin: Wisconsin Department of Natural Resouces, 101 South Webster St., P.O. Box 7921, Madison, Wisconsin 53707-7921.

* * * * *

PART 61—[AMENDED]

9. The authority citation for part 61 continues to read as follows:

Authority: 42 U.S.C. 7401 et seq.

Subpart A—General Provisions

10. Section 61.04 is amended by revising paragraphs (b)(O), (b)(P), (b)(X), (b)(Y), (b)(KK), and (b)(YY) to read as follows:

§ 61.04 Address.

* * * * *

(b) * * *

(O) State of Illinois: Illinois Environmental Protection Agency, 1021 North Grand Avenue East, Springfield, Illinois 62794.

(P) State of Indiana: Indiana Department of Environmental Management, Office of Air Quality, 100 North Senate Avenue, Indianapolis, Indiana 46204.

* * * * *

(X) State of Michigan: Michigan Department of Natural Resources and Environment Quality, Air Quality Division, P.O. 30028, Lansing, Michigan 48909.

(Y) State of Minnesota: Minnesota Pollution Control Agency, Division of Air Quality, 520 Lafayette Road North, St. Paul, Minnesota 55155.

* * * * *

(KK) State of Ohio:

(i) Medina, Summit and Portage Counties; Director, Akron Regional Air Quality Management District, 146 South High Street, Room 904, Akron, OH 44308.

(ii) Stark County; Director, Canton City Health Department, Air Pollution Control Division, 420 Market Avenue North, Canton, Ohio 44702-1544.

(iii) Butler, Clermont, Hamilton, and Warren Counties; Director, Hamilton County Department of Environmental Services, 250 William Howard Taft Road, Cincinnati, Ohio 45219-2660.

(iv) Cuyahoga County; Commissioner, Cleveland Department of Public Health, Division of Air Quality, 75 Erieview Plaza 2nd Floor, Cleveland, Ohio 44114.

(v) Clark, Darke, Greene, Miami, Montgomery, and Preble Counties; Director, Regional Air Pollution Control Agency, 117 South Main Street, Dayton, Ohio 45422-1280.

(vi) Lucas County and the City of Rossford (in Wood County); Director, City of Toledo, Division of Environmental Services, 348 South Erie Street, Toledo, OH 43604.

(vii) Adams, Brown, Lawrence, and Scioto Counties; Portsmouth Local Air Agency, 605 Washington Street, Third Floor, Portsmouth, OH 45662.

(viii) Allen, Ashland, Auglaize, Crawford, Defiance, Erie, Fulton, Hancock, Hardin, Henry, Huron, Marion, Mercer, Ottawa, Paulding, Putnam, Richland, Sandusky, Seneca, Van Wert Williams, Wood (Except City of Rossford), and Wyandot Counties; Ohio Environmental Protection Agency, Northwest District Office, Air Pollution Control, 347 North Dunbridge Road, Bowling Green, Ohio 43402.

(ix) Ashtabula, Caroll, Colombiana, Holmes, Lorain, and Wayne Counties; Ohio Environmental Protection Agency, Northeast District Office, Air Pollution Unit, 2110 East Aurora Road, Twinsburg, OH 44087.

(x) Athens, Belmont, Coshocton, Gallia, Guemsey, Harrison, Hocking, Jackson, Jefferson, Meigs, Monroe, Morgan, Muskingum, Noble, Perry, Pike, Ross, Tuscarawas, Vinton, and Washington Counties; Ohio Environmental Protection Agency, Southeast District Office, Air Pollution Unit, 2195 Front Street, Logan, OH 43138.

(xi) Champaign, Clinton, Highland, Logan, and Shelby Counties; Ohio Environmental Protection Agency, Southwest District Office, Air Pollution Unit, 401 East Fifth Street, Dayton, Ohio 45402-2911.

(xii) Delaware, Fairfield, Fayette, Franklin, Knox, Licking, Madison, Morrow, Pickaway, and Union Counties; Ohio Environmental Protection Agency, Central District Office, Air Pollution control, 50 West Town Street, Suite 700, Columbus, Ohio 43215.

(xiii) Geauga and Lake Counties; Lake County General Health District, Air Pollution Control, 33 Mill Street, Painesville, OH 44077.

(xiv) Mahoning and Trumbull Counties; Mahoning-Trumbull Air Pollution Control Agency, 345 Oak Hill Avenue, Suite 200, Youngstown, OH 44502.

* * * * *

(YY) State of Wisconsin: Wisconsin Department of Natural Resources, 101 South Webster St., P.O. Box 7921, Madison, Wisconsin 53707-7921. 101 South Webster St., P.O. Box 7921, Madison, Wisconsin 53707-7921.

* * * * *

[FR Doc. 2010-22330 Filed 9-9-10; 8:45 am]

BILLING CODE 6560-50-P